DEPARTMENT OF ENERGY

Federal Energy Regulatory Commission

[Docket No. AD04-8-000]

Electric Creditworthiness Standards; Errata Notice

July 8, 2004.

On May 28, 2004, the Commission issued a “Notice Of Technical Conference And Request For Written Comments On Credit-Related Issues For Electric Transmission Providers, Independent System Operators, and Regional Transmission Organizations” in the above-referenced proceeding.

The following dockets should have been included in the caption of the notice: ISO New England, Inc., ER04-121-001; New York Independent System Operator, Inc., ER03-552-006 and ER03-984-006; New England Power Pool, ER04-984-000; Midwest Independent Transmission System Operator, Inc., ER04-691-000 and EL04-104-000; PJM Interconnection, LLC, ER03-1117-001; and PJM Interconnection, LLC, ER03-1101-002 and ER03-1101-003. The notice is hereby revised to include those dockets in the caption of the notice, because they involve pending credit-related issues that might be touched upon at the technical conference.

The caption should read as follows:

Electric Creditworthiness Standards—Docket No. AD04-8-000

ISO New England, Inc.—Docket No. ER04-121-001.

New York Independent System Operator, Inc.—Docket Nos. ER03-552-009 and ER03-984-007.

New England Power Pool—Docket No. ER04-984-000.

Midwest Independent Transmission System Operator, Inc.—Docket Nos. ER04-691-000 and EL04-104-000.

PJM Interconnection, LLC—Docket No. ER03-1117-001.

PJM Interconnection, LLC—Docket Nos. ER03-1101-002 and ER03-1101-003.

Magalie R. Salas,
Secretary.

[FR Doc. E4-1525 Filed 7-13-04; 8:45 am]

BILLING CODE 6717-01-P